DEPARTMENT OF ENERGY

Secretary of Energy Advisory Board

AGENCY: Department of Energy.

ACTION: Notice of open meeting.

SUMMARY: This notice announces an open meeting of the Secretary of Energy Advisory Board (SEAB). SEAB was reestablished pursuant to the Federal Advisory Committee Act (Pub. L. 92-463, 86 Stat. 770) (the Act). This notice is provided in accordance with the Act.

DATES: Thursday, September 16, 2010. 8:30 a.m.-4 p.m.

ADDRESSES: Department of Energy, 1000 Independence Avenue, SW., Washington, DC 20585.

Note: See the Public Participation section for building entry requirements. Please arrive early.

FOR FURTHER INFORMATION CONTACT: Amy Bodette, Designated Federal Officer, U.S. Department of Energy, 1000 Independence Avenue, SW., Washington, DC 20585; telephone (202) 586-0383 or facsimile (202) 586-1441; SEAB@hq.doe.gov.

SUPPLEMENTARY INFORMATION:

Background: The Board was reestablished to provide advice and recommendations to the Secretary on the Department's basic and applied research, economic and national security policy, educational issues, operational issues and other activities as directed by the Secretary.

Purpose of the Meeting: The meeting will serve as an introductory meeting and will provide an overview of Departmental programs and priorities to the Board.

Tentative Agenda: The meeting will start at 8:30 a.m. on September 16th and will serve as an introductory meeting for the Board. The tentative meeting agenda includes a welcome, opening remarks from the Secretary, overview presentations of Departmental programs and priorities, open discussion, and an opportunity for public comment. The meeting will conclude at 4 p.m.

Public Participation: The meeting is open to the public. Individuals who would like to attend must RSVP to Amy Bodette no later than 5 p.m. on Tuesday, September 14, 2010 at SEAB@hq.doe.gov. Please provide your name, organization, citizenship and contact information. Entry to the DOE Forrestal building will be restricted to those who have confirmed their attendance in advance. Anyone attending the meeting will be required to present a government photo identification, such as a passport, driver's license, or government identification. Individuals and representatives of organizations who would like to offer comments and suggestions may do so at the end of the meeting on Thursday, September 16, 2010. Approximately 30 minutes will be reserved for public comments. Time allotted per speaker will depend on the number who wish to speak but will not exceed 5 minutes. The Designated Federal Officer is empowered to conduct the meeting in a fashion that will facilitate the orderly conduct of business. Those wishing to speak should register to do so beginning at 8 a.m. on September 16, 2010. Registration to speak will close at 1 p.m., September 16, 2010.

Those not able to attend the meeting or have insufficient time to address the committee are invited to send a written statement to Amy Bodette, U.S. Department of Energy 1000 Independence Avenue, SW., Washington, DC 20585, e-mail to SEAB@hq.doe.gov.

Minutes: The minutes of the meeting will be available by contacting Ms. Bodette. She may be reached at the postal address or e-mail address above.

Issued in Washington, DC, on August 27, 2010.
Rachel Samuel,
Deputy Committee Management Officer.

[FR Doc. 2010-21866 Filed 8-31-10; 8:45 am]

BILLING CODE 6450-01-P